ENVIRONMENTAL PROTECTION AGENCY

[EPA-HQ-OECA-2006-0444; FRL-8294-3]

Agency Information Collection Activities; Submission to OMB for Review and Approval; Comment Request; Emission Guidelines for Commercial and Industrial Solid Waste Incineration Units (Renewal), EPA ICR Number 1927.04, OMB Control Number 2060-0451

AGENCY: Environmental Protection Agency.

ACTION: Notice.

SUMMARY: In compliance with the Paperwork Reduction Act (44 U.S.C. 3501 et seq.), this document announces that an Information Collection Request (ICR) has been forwarded to the Office of Management and Budget (OMB) for review and approval. This ICR, which is abstracted below, describes the nature of the information collection and its expected burden and cost.

DATES: Additional comments may be submitted on, or before May 2, 2007.

ADDRESSES: Submit your comments, referencing docket ID number EPA-HQ-OECA-2006-0444, to (1) EPA online using www.regulation.gov (our preferred method), by e-mail to EPA Docket center (EPA/DC), Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: With questions about this ICR, contact Robert Marshall, Air Enforcement Division, Office of Civil Enforcement, Mail Code 2242A, Environmental Protection Agency, 1200 Pennsylvania Avenue, NW., Washington, DC 20460; telephone number: (202) 564-7021; fax number: (202) 564-0050; e-mail address: marshall.robert@epa.gov.

SUPPLEMENTARY INFORMATION: EPA has submitted the following ICR to OMB for review and approval according to the procedures prescribed in 5 CFR 1320.12. On June 21, 2006, (71 FR 35652), EPA sought comments on this ICR pursuant to 5 CFR 1320.8(d). EPA received no comments.

EPA has established a public docket for this ICR under Docket ID Number EPA-HQ-OECA-2006-0444, which is available for public viewing on line at http://www.regulation.gov, in person viewing at the Enforcement and Compliance Docket and Information Center in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1927.

Use EPA's electronic docket and comments system at http://www.regulations.gov to submit or view public comments, access the index listing of the contents of the public docket, and to access those documents in the public docket that are available electronically. Once in the system, select “search,” then key in the docket ID number identified above. Please note that EPA's policy that public comments, whether submitted electronically or in paper, will be made available for public viewing at http://www.regulations.gov, as EPA receives them and without change, unless the comment contains copyrighted material, CBI, or other information whose public disclosure is restricted by statute. For further information about the electronic docket, go to http://www.regulations.gov, or to EPA's Federal Register notice describing the electronic docket at 71 FR 35652 (June 21, 2006).

Title: Emission Guidelines for Commercial and Industrial Solid Waste Incineration Units (40 CFR part 60, subpart DDDD).

ICR Numbers: EPA ICR Number 1927.04, OMB Control Number 2060-0451.

ICR Status: This is a request to renew an existing approved collection that is scheduled to expire on April 30, 2007. Under the OMB regulations, the Agency may continue to conduct, or sponsor the collection of information while this submission is pending at OMB. An Agency may not conduct, or sponsor, and a person is not required to respond to, a collection of information unless it displays a currently valid OMB control number. The OMB control number for EPA's regulations in title 40 of the CFR, after appearing in the Federal Register when approved, are listed in 40 CFR part 9, and displayed either by publication in the Federal Register, or by other appropriate means, such as on the related collection instrument, or form, if applicable. The display of OMB control numbers in certain EPA regulations is consolidated in 40 CFR part 9.

Abstract: Emission Guidelines for Commercial and Industrial Solid Waste Incineration (CISWI) Units (40 CFR part 60, subpart DDDD), were promulgated on December 1, 2000. The emission guidelines require a one-time waste management plan, initial performance tests for ten pollutants, annual performance testing for particulate matter (PM), hydrogen chloride (HCl), and opacity, continuous operating parameter monitoring, annual operator training, and annual reporting. A deviation report is required if any of the emission limitations, or operating limits are exceeded. The frequency of these activities was chosen by EPA as the period that will provide an adequate margin of assurance that affected facilities will not operate for extended periods in violation of the standards.

The Environmental Protection Agency (EPA) is required under section 111 of the Clean Air Act, as amended, to collect data. The information will be used by Agency enforcement personnel to (1) Identify existing sources subject to these standards; (2) ensure that Best Demonstrated Technology is being applied properly; and (3) ensure that the emission control device is being properly operated and maintained on a continuous basis. In addition, records and reports are necessary to enable the EPA to identify those site remediation facilities that may not be in compliance with these standards. Based on reported information, the EPA can decide which facilities should be inspected and what records, or processes should be inspected at the facilities. The records that site remediation facilities maintain would indicate to the EPA whether the personnel are operating and maintaining control equipment properly. The types of data required are principally emissions data (through parametric monitoring) and would not be confidential. If any information is submitted to the EPA for which a claim of confidentiality is made, the information would be safeguarded according to the Agency policies set forth in 40 CFR, chapter 1, part 2, subpart B.

An agency may not conduct, or sponsor, and a person is not required to respond to, a collection of information unless it displays a currently valid OMB control number. The OMB control numbers for EPA's regulations are listed in 40 CFR part 9. The Federal Register document required under 5 CFR 1320.8(d), soliciting comments on this collection of information was published on June 21, 2006. No comments were received.

Burden Statement: The annual public reporting and recordkeeping burden for this collection of information is estimated to average 211 hours per response. Burden means the total time, effort, or financial resources expended by persons to generate, maintain, retain, or disclose, or provide information to, or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Commercial and Industrial Solid Waste Incineration Units.

Estimated Number of Respondents: 97.

Frequency of Response: Annually, initially, and on occasion.

Estimated Total Annual Hour Burden: 31,620 hours.

Estimated Total Annual Cost: $2,904,567, which includes annual O&M cost of $20,467, no capital/startup costs, and $2,884,100 in labor costs.

Changes in the Estimates: There is a decrease of 40,803 hours in the total estimated burden currently identified in the OMB Inventory of Approved ICR Burdens. The decrease in burden from the most recently approved ICR is due to no new facilities and thus no initial burden under this ICR. In the active ICR, EPA assumed that there would be six new facilities a year over the past three years. The Agency's most recent estimate indicates that there will be no new facilities over the next three years and that the total number of facilities is unchanged (97).

Dated: March 26, 2007.
Oscar Morales,
Director, Collection Strategies Division.

[FR Doc. E7-6044 Filed 3-30-07; 8:45 am]

BILLING CODE 6560-50-P